DEPARTMENT OF TRANSPORTATION

Federal Aviation Administration

14 CFR Part 39

[Docket No. 2004-CE-04-AD]

RIN 2120-AA64

Airworthiness Directives; Raytheon Aircraft Company 65, 90, 99, 100, 200, 300, and 1900 Series Airplanes

AGENCY: Federal Aviation Administration (FAA), DOT.

ACTION: Notice of proposed rulemaking (NPRM).

SUMMARY: The FAA proposes to adopt a new airworthiness directive (AD) for certain Raytheon Aircraft Company (Raytheon) 65, 90, 99, 100, 200, 300, and 1900 series airplanes. This proposed AD would require you to repetitively inspect the engine controls/cross shaft/pedestal for proper installation and torque, re-torque the cross shaft attach bolt, and modify the pedestal and replace the engine controls cross shaft hardware. Modification of the pedestal and replacement of the engine controls cross shaft hardware is terminating action for the repetitive inspection requirements. This proposed AD is the result of numerous reports of loose bolts on the pedestal attachment of the throttle/prop cross shaft assembly. We are issuing this proposed AD to detect and correct loose bolts not securing the pedestal cross shaft, which could result in limited effectiveness of the control levers. This failure could lead to an aborted takoff.

DATES: We must receive any comments on this proposed AD by June 22, 2004.

ADDRESSES: Use one of the following to submit comments on this proposed AD:

• By mail: FAA, Central Region, Office of the Regional Counsel, Attention: Rules Docket No. 2004-CE-04-AD, 901 Locust, Room 506, Kansas City, Missouri 64106.

• By fax: (816) 329-3771.

• By e-mail: 9-ACE-7-Docket@faa.gov. Comments sent electronically must contain “Docket No. 2004-CE-04-AD” in the subject line. If you send comments electronically as attached electronic files, the files must be formatted in Microsoft Word 97 for Windows or ASCII.

You may get the service information identified in this proposed AD from Raytheon Aircraft Company, 9709 E. Central, Wichita, Kansas 67201-0085; telephone: (800) 429-5372 or (316) 676-3140.

You may view the AD docket at FAA, Central Region, Office of the Regional Counsel, Attention: Rules Docket No. 2004-CE-04-AD, 901 Locust, Room 506, Kansas City, Missouri 64106. Office hours are 8 a.m. to 4 p.m., Monday through Friday, except Federal holidays.

FOR FURTHER INFORMATION CONTACT: Jeff Pretz, Aerospace Engineer, Wichita Aircraft Certification Office, FAA, 1801 Airport Road, Mid-Continent Airport, Wichita, Kansas 67209; telephone: (316) 946-4153; facsimile: (316) 946-4407.

SUPPLEMENTARY INFORMATION:

Comments Invited

How do I comment on this proposed AD?

We invite you to submit any written relevant data, views, or arguments regarding this proposal. Send your comments to an address listed under ADDRESSES. Include “AD Docket No. 2004-CE-04-AD” in the subject line of your comments. If you want us to acknowledge receipt of your mailed comments, send us a self-addressed, stamped postcard with the docket number written on it. We will date-stamp your postcard and mail it back to you.

Are there any specific portions of this proposed AD I should pay attention to?

We specifically invite comments on the overall regulatory, economic, environmental, and energy aspects of this proposed AD. If you contact us through a nonwritten communication and that contact relates to a substantive part of this proposed AD, we will summarize the contact and place the summary in the docket. We will consider all comments received by the closing date and may amend this proposed AD in light of those comments and contacts.

Discussion

What events have caused this proposed AD?

The FAA has received numerous reports of loose bolts not securing the pedestal cross shaft on Raytheon Models B300, C90A, and 1900 series airplanes. Investigation revealed that the bolt securing the pedestal cross shaft can loosen in time and fall out. When the bolt backs out, the cross shaft will flex with throttle or propeller control application. This flexing of the cross shaft limits the effectiveness of the control levers and the operation of the landing gear warning, prop reverse not ready, autofeather, and ground idle micro switches (on models with switches at this location).

What is the potential impact if FAA took no action?

This failure could limit the effectiveness of the engine control levers and result in an aborted takeoff due to failure to make takeoff power.

Is there service information that applies to this subject?

Raytheon has issued Service Bulletin No. SB 73-3634, dated September 2003.

What are the provisions of this service information?

The service bulletin includes procedures for:

—Performing a recurring inspection of the engine controls/cross shaft/pedestal;

—Re-torquing of the cross shaft attach bolt;

—Modifying the pedestal; and

—Replacing the engine controls cross shaft hardware.

FAA's Determination and Requirements of this Proposed AD

What has FAA decided?

We have evaluated all pertinent information and identified an unsafe condition that is likely to exist or develop on other products of this same type design. Therefore, we are proposing AD action.

What would this proposed AD require?

This proposed AD would require you to incorporate the actions in the previously-referenced service bulletin.

How does the revision to 14 CFR part 39 affect this proposed AD?

On July 10, 2002, we published a new version of 14 CFR part 39 (67 FR 47997, July 22, 2002), which governs FAA's AD system. This regulation now includes material that relates to altered products, special flight permits, and alternative methods of compliance. This material previously was included in each individual AD. Since this material is included in 14 CFR part 39, we will not include it in future AD actions.

Costs of Compliance

How many airplanes would this proposed AD impact?

We estimate that this proposed AD affects 5,025 airplanes in the U.S. registry.

What would be the cost impact of this proposed AD on owners/operators of the affected airplanes?

We estimate the following costs to accomplish this proposed inspection and re-torque of the cross attach bolt:

Labor cost | Parts cost | Total cost per airplane | Total cost on U.S. operators
1 workhour X $65 per hour = $65 | Not Applicable | $65 | $65 X 5,025 = $326,625

We estimate the following costs to do the proposed modification of the pedestal and replacement of the engine controls cross shaft hardware:

Labor cost | Parts cost | Total cost per airplane | Total cost on U.S. operators
2 workhours X $65 per hour = $130 | $10 | $140 | $140 X 5,025 = $703,500

Regulatory Findings

Would this proposed AD impact various entities?

We have determined that this proposed AD would not have federalism implications under Executive Order 13132. This proposed AD would not have a substantial direct effect on the States, on the relationship between the national Government and the States, or on the distribution of power and responsibilities among the various levels of government.

Would this proposed AD involve a significant rule or regulatory action?

For the reasons discussed above, I certify that this proposed AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared a summary of the costs to comply with this proposed AD and placed it in the AD Docket. You may get a copy of this summary by sending a request to us at the address listed under ADDRESSES. Include “AD Docket No. 2004-CE-04-AD” in your request.

List of Subjects in 14 CFR Part 39

Air transportation, Aircraft, Aviation safety, Safety.

The Proposed Amendment

Accordingly, under the authority delegated to me by the Administrator, the Federal Aviation Administration proposes to amend 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new airworthiness directive (AD):

Raytheon Aircraft Company: Docket No. 2004-CE-04-AD.

When Is the Last Date I Can Submit Comments on This Proposed AD?

(a) We must receive comments on this proposed airworthiness directive (AD) by June 22, 2004.

What Other ADs Are Affected by This Action?

(b) None.

What Airplanes Are Affected by This AD?

(c) This AD affects the following airplane models and serial numbers that are certificated in any category:

Model | Serial Numbers
(1) 65-A90, B90, C90, and C90A | LJ-76, LJ-114 through LJ-1691.
(2) E90 | LW-1 through LW-347.
(3) F90 | LA-2 through LA-236.
(4) 99, 99A, A99A, B99 and C99 | U-1 through U-239.
(5) 100 and A100 | B-1 through B-94, B-100 through B-204, and B-206 through B-247.
(6) B100 | BE-1 through BE-137.
(7) 200 and B200 | BB-2, BB-6 through BB-185, BB-187 through BB-202, BB-204 through BB-269, BB-271 through BB-407, BB-409 through BB-468, BB-470 through BB-488, BB-490 through BB-509, BB-511 through BB-529, BB-531 through BB-550, BB-552 through BB-562, BB-564 through BB-572, BB-574 through BB-590, BB-592 through BB-608, BB-610 through BB-626, BB-628 through BB-646, BB-648 through BB-664, BB-666 through BB-694, BB-696 through BB-797, BB-799 through BB-822, BB-824 through BB-870, BB-872 through BB-894, BB-896 through BB-990, BB-992 through BB-1051, BB-1053 through BB-1092, BB-1094, BB-1095, BB-1099 through BB-1104, BB-1106 through BB-1116, BB-1118 through BB-1184, BB-1186 through BB-1263, BB-1265 through BB-1288, BB-1290 through BB-1300, BB-1302 through BB-1313, BB-1315 through BB-1384, BB-1389 through BB-1425, BB-1427 through BB-1447, BB-1449, BB-1450, BB-1452, BB-1453, BB-1455, BB-1456, BB-1458 through BB-1683, BB-1685 through BB-1716, BB-1718 through BB-1720, BB-1722, BB-1723, BB-1725, BB-1726, BB-1728 through BB-1826.
(8) 200C and B200C | BL-1 through BL-23, BL-25 through BL-57, BL-61 through BL-72, and BL-124 through BL-147.
(9) 200CT and B200CT | BN-1 through BN-4.
(10) 200T and B200T | BT-1 through BT-38, and BB-1314.
(11) 300 and 300LW | FA-1 through FA-230; and FF-1 through FF-19.
(12) B300 | FL-1 through FL-379.
(13) B300C | FM-1 through FM-10; and FN-1.
(14) 1900 | UA-3.
(15) 1900C | UB-1 through UB-74 and UC-1 through UC-174.
(16) 1900D | UE-1 through UE-439.
(17) 65-A90-1 (U-21A or U-21G) | LM-1 through LM-141.
(18) 65-A90-2 (RU-21B) | LS-1 through LS-3.
(19) 65-A90-3 (U-21 Series) | LT-1 and LT-2.
(20) 65-A90-4 (U-21 Series) | LU-1 through LU-16.
(21) H90 (T-44A) | LL-1 through LL-61.
(22) A100-1 (U-21J) | BB-3 through BB-5.
(23) A100 (U-21F) | B-95 through B-99.
(24) A200 (C-12A and C-12C) | BC-1 through BC-75 and BD-1 through BD-30.
(25) A200C (UC-12B) | BJ-1 through BJ-66.
(26) A200CT (C-12D, FWC-12D, C-12F) | BP-1, BP-7 through BP-11, BP-19, BP-22, and BP-24 through BP-63.
(27) A200CT (RC-12D, RC-12H) | GR-1 through GR-12, and GR-14 through GR-19.
(28) A200CT (RC-12G) | FC-1 through FC-3.
(29) A200CT (RC-12K, RC-12P and RC-12Q) | FE-1 through FE-9, and FE-25 through FE-36.
(30) B200C (C-12F) | BL-73 through BL-112, and BL-118 through BL-123; BP-64 through BP-71.
(31) B200C (C-12R) | BW-1 through BW-29.
(32) B200C (UC-12M) | BV-1 through BV-10.
(33) B200C (UC-12F) | BU-1 through BU-10.
(34) 1900C (C-12J) | UD-1 through UD-6.

What Is the Unsafe Condition Presented in This AD?

(d) This AD is the result of numerous reports of loose bolts on the pedestal attachment of the throttle/prop cross shaft assembly. The actions specified in this AD are intended to detect and correct loose bolts not securing the pedestal cross shaft, which could result in limited effectiveness of the control levers. This failure could lead to an aborted takoff.

What Must I Do To Address This Problem?

(e) To address this problem, you must do the following:

Actions | Compliance | Procedures
(1) Inspection and torque: (i) inspect the engine controls/cross shaft/pedestal for proper installation and torque; and (ii) re-torque the cross attach bolt | Initially inspect within the next 50 hours time-in-service (TIS), unless already done within the last 50 hours TIS, and thereafter at intervals not to exceed 100 hours until the modification in paragraph (e)(3) of this AD is done | Follow Part I, Accomplishment Instructions of Raytheon Aircraft Company Mandatory Service Bulletin No. SB 73-3634, dated September 2003. The applicable airplane maintenance manual also addresses this issue.
(2) If any improper installation or wrong torque is found during any inspection required by paragraph (e)(1) of this AD, correct the installation or torque | Before further flight after the inspection in which any improper installation or wrong torque is found | Follow Part I, Accomplishment Instructions of Raytheon Aircraft Company Mandatory Service Bulletin No. SB 73-3634, dated September 2003. The applicable airplane maintenance manual also addresses this issue.
(3) Modify the pedestal and replace the engine controls cross shaft hardware. Modification of the pedestal and replacement of the engine controls cross shaft hardware is the terminating action for the repetitive inspection and re-torque requirements specified in paragraph (e)(1) of this AD | At the next scheduled maintenance/inspection interval or 12 calendar months after the effective date of this AD, whichever occurs later. You may do this time as terminating action for the repetitive inspection and re-torque requirements | Follow Part II, Accomplishment Instructions of Raytheon Aircraft Company Mandatory Service Bulletin No. SB 73-3634, dated September 2003. The applicable airplane maintenance manual also addresses this issue.

May I Request an Alternative Method of Compliance?

(f) You may request a different method of compliance or a different compliance time for this AD by following the procedures in 14 CFR 39.19. Unless FAA authorizes otherwise, send your request to your principal inspector. The principal inspector may add comments and will send your request to the Manager, Wichita Aircraft Certification Office (ACO), FAA. For information on any already approved alternative methods of compliance, contact Jeff Pretz, Aerospace Engineer, Wichita ACO, FAA, 1801 Airport Road, Mid-Continent Airport, Wichita, Kansas 67209; telephone: (316) 946-4153; facsimile: (316) 946-4107.

May I Get Copies of the Documents Referenced in this AD?

(g) You may get copies of the documents referenced in this AD from Raytheon Aircraft Company, 9709 E. Central, Wichita, Kansas 67201-0085; telephone: (800) 429-5372 or (316) 676-3140. You may view these documents at FAA, Central Region, Office of the Regional Counsel, 901 Locust, Room 506, Kansas City, Missouri 64106.

Issued in Kansas City, Missouri, on April 16, 2004.
James E. Jackson,
Acting Manager, Small Airplane Directorate, Aircraft Certification Service.

[FR Doc. 04-9105 Filed 4-21-04; 8:45 am]

BILLING CODE 4910-13-P